DEPARTMENT OF COMMERCE

International Trade Administration

[A-469-817]

Ripe Olives From Spain: Preliminary Results of Antidumping Duty Administrative Review and Preliminary Determination of No Shipments; 2020-2021

AGENCY: Enforcement and Compliance, International Trade Administration, Department of Commerce.

SUMMARY: The U.S. Department of Commerce (Commerce) preliminarily finds that producers/exporters subject to this administrative review made sales of subject merchandise at less than normal value during the period of review (POR), August 1, 2020, through July 31, 2021. We invite interested parties to comment on these preliminary results.

DATES: Applicable June 8, 2022.

FOR FURTHER INFORMATION CONTACT: Bryan Hansen or Claudia Cott, AD/CVD Operations, Office I, Enforcement and Compliance, International Trade Administration, U.S. Department of Commerce, 1401 Constitution Avenue NW, Washington, DC 20230; telephone: (202) 482-3683 or (202) 482-4270, respectively.

SUPPLEMENTARY INFORMATION:

Background

On August 1, 2018, Commerce published in the Federal Register the antidumping duty order on ripe olives (olives) from Spain.¹ On August 2, 2021, we published in the Federal Register a notice of opportunity to request an administrative review of the Order.² On October 7, 2021, based on timely requests for an administrative review, Commerce initiated the administrative review of five companies.³ On November 10, 2021, Commerce selected Agro Sevilla Aceitunas, S. Coop. And. (Agro Sevilla) and Angel Camacho Alimentacion, S.L. (Camacho) as the mandatory respondents in this administrative review.⁴

¹ See Ripe Olives from Spain: Antidumping Duty Order, 83 FR 37465 (August 1, 2018); see also Ripe Olives from Spain: Notice of Correction to Antidumping Duty Order, 83 FR 39691 (August 10, 2018) (Order).

² See Antidumping or Countervailing Duty Order, Finding, or Suspended Investigation; Opportunity to Request Administrative Review, 86 FR 41436 (August 2, 2021).

³ See Initiation of Antidumping and Countervailing Duty Administrative Reviews, 86 FR 55811 (October 7, 2021).

⁴ See Memorandum, “Ripe Olives from Spain; 2020-2021: Respondent Selection,” dated November 10, 2021.

On March 31, 2022, Commerce extended the time limit for issuing the preliminary results of this review by 35 days, to no later than June 7, 2022.⁵ For a complete description of the events between the initiation of this review and these preliminary results, see the Preliminary Decision Memorandum.⁶

⁵ See Memorandum, “Ripe Olives from Spain; 2020-21: Extension of Deadline for Preliminary Results of Antidumping Duty Administrative Review,” dated March 31, 2022.

⁶ See Memorandum, “Ripe Olives from Spain: Decision Memorandum for Preliminary Results of Antidumping Duty Administrative Review; 2020-2021,” dated concurrently with, and hereby adopted by, this notice (Preliminary Decision Memorandum).

A list of the topics discussed in the Preliminary Decision Memorandum is attached as the appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Scope of the Order

The products covered by this Order are olives from Spain. For a full description of the scope of the Order, see the Preliminary Decision Memorandum.⁷

⁷ See Preliminary Decision Memorandum at “Scope of the Order.”

Verification

Commerce was unable to conduct on-site verifications of the information we will rely upon for the final results of review. However, we took additional steps in lieu of on-site verifications to verify the information which we will rely upon for the final results of review, in accordance with section 782(i) of the Tariff Act of 1930, as amended (the Act).⁸

⁸ See Commerce's Letters, In Lieu of On-Site Verification Questionnaires to Agro Sevilla and Camacho, dated April 18, 2022; Agro Sevilla's Letter, “Agro Sevilla's Response to the Department's Questionnaire in Lieu of Verification: Ripe Olives From Spain (08/01/2020-07/31/2021),” dated April 25, 2022; and Camacho's Letter, “Camacho's Response to Questionnaire in Lieu of Verification Response Ripe Olives From Spain (POR3: 08/01/2020-07/31/2021),” dated April 25, 2022.

Methodology

Commerce is conducting this review in accordance with section 751 of the Act. Export price and constructed export price are calculated in accordance with section 772 of the Act. Normal value is calculated in accordance with section 773 of the Act. For a full description of the methodology underlying these preliminary results, see the Preliminary Decision Memorandum.

Rates for Non-Selected Companies

The statute and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero or de minimis margins, and any margins determined entirely {on the basis of facts available}.”

In this review, we preliminarily calculated weighted-average dumping margins for the mandatory respondents, Agro Sevilla and Camacho that are not zero, de minimis, or determined entirely on the basis of facts available. Accordingly, Commerce is preliminarily assigning to the companies not individually examined, listed in the chart below, a margin of 2.87 percent which is the weighted-average of Agro Sevilla's and Camacho's calculated weighted-average dumping margins.⁹

⁹ For more information regarding the calculation of this margin, see Memorandum, “Ripe Olives from Spain: Calculation of the Preliminary Margin for Respondents Not Selected for Individual Examination,” dated concurrently with this notice. As the weighting factor, we relied on the publicly ranged sales data reported in the quantity and value charts submitted by Agro Sevilla and Camacho.

Preliminary Determination of No Shipments

On October 27, 2021, Alimentary Group Dcoop S. Coop. And. (Dcoop) timely filed a letter certifying that it had no U.S. exports, sales, or entries of subject merchandise to the United States during the POR.¹⁰ Subsequently, we received information from U.S. Customs and Border Protection (CBP) confirming Dcoop's no shipment claims. Based on the foregoing, Commerce preliminarily determines that Dcoop did not have any reviewable transactions during the POR. For additional information regarding this determination, see the Preliminary Decision Memorandum. Consistent with Commerce's practice, we are not preliminarily rescinding the review with respect to Dcoop but, rather, we will complete the review with respect to Dcoop and issue appropriate instructions to CBP based on the final results of this review.¹¹

¹⁰ See Dcoop's Letter, “DCOOP's Statement of No Exports, Sales, or Entries During the Period of Review (POR3) Ripe Olives from Span {sic} (08/01/2020-07/31/2021),” dated October 27, 2021.

¹¹ See, e.g., Narrow Woven Ribbons with Woven Selvedge from Taiwan; Preliminary Results of Antidumping Duty Administrative Review and Preliminary Determination of No Shipments; 2014-2015, 81 FR 71057, 71058 (October 14, 2016), unchanged in Narrow Woven Ribbons with Woven Selvedge from Taiwan; Final Results of Antidumping Duty Administrative Review and Final Determination of No Shipments; 2014-2015, 82 FR 18432, 18433 (April 19, 2017).

Preliminary Results of Review

We preliminarily determine that the following weighted-average dumping margins exist for the respondents for the period August 1, 2020, through July 31, 2021:

Producer/exporter | Weighted-average dumping margin (percent)
Agro Sevilla Aceitunas, S. Coop. And | 1.84
Angel Camacho Alimentacion, S.L | 4.56

Review-Specific Average Rate Applicable to the Following Companies:

Producer/exporter | Weighted-average dumping margin (percent)
Aceitunas Guadalquivir, S.L.U | 2.87
Aceitunas Torrent, S.L | 2.87

Disclosure and Public Comment

We intend to disclose the calculations performed in connection with these preliminary results to interested parties within five days after public announcement of the preliminary results.¹² Pursuant to 19 CFR 351.309(c), interested parties may submit case briefs to the Assistant Secretary for Enforcement and Compliance no later than 30 days after the date of publication of this notice. Rebuttal briefs, limited to issues raised in the case briefs, may be filed not later than seven days after the date for filing case briefs.¹³ Parties who submit case briefs or rebuttal briefs in this proceeding are encouraged to submit with each argument: (1) a statement of the issue; (2) a brief summary of the argument; and (3) a table of authorities.¹⁴ Case and rebuttal briefs should be filed using ACCESS and must be served on interested parties.¹⁵ Note that Commerce has temporarily modified certain of its requirements for serving documents containing business proprietary information, until further notice.¹⁶

¹² See 19 CFR 351.224(b).

¹³ See 19 CFR 351.309(d).

¹⁴ See 19 CFR 351.309(c)(2) and (d)(2).

¹⁵ See 19 CFR 351.303.

¹⁶ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5:00 p.m. Eastern Time within 30 days after the date of publication of this notice. If a request for a hearing is made, Commerce intends to hold the hearing at a time and date to be determined. Parties should confirm by telephone the date, time, and location of the hearing two days before the scheduled date.

Unless extended, Commerce intends to issue the final results of this administrative review, including the results of its analysis of the issues raised in any written briefs, no later than 120 days after the date of publication of this notice, pursuant to section 751(a)(3)(A) of the Act and 19 CFR 351.213(h).

Assessment Rates

Upon completion of the final results, Commerce shall determine, and CBP shall assess, antidumping duties on all appropriate entries covered by this review.¹⁷ If a respondent's weighted-average dumping margin is not zero or de minimis (i.e., less than 0.5 percent) in the final results of this review, we intend to calculate an importer-specific assessment rate based on the ratio of the total amount of dumping calculated for each importer's examined sales and the total entered value of those same sales in accordance with 19 CFR 351.212(b)(1).¹⁸ If the respondent's weighted-average dumping margin or an importer-specific assessment rate is zero or de minimis in the final results of this review, we intend to instruct CBP not to assess duties on any of its entries in accordance with the Final Modification for Reviews.¹⁹ The final results of this administrative review shall be the basis for the assessment of antidumping duties on entries of merchandise covered by the final results of this review and for future deposits of estimated duties, where applicable.²⁰

¹⁷ See 19 CFR 351.212(b)(1).

¹⁸ In these preliminary results, Commerce applied the assessment rate calculation method adopted in Antidumping Proceedings: Calculation of the Weighted-Average Dumping Margin and Assessment Rate in Certain Antidumping Duty Proceedings; Final Modification, 77 FR 8101 (February 14, 2012) (Final Modification for Reviews).

¹⁹ See Final Modification for Reviews, 77 FR at 8103; see also 19 CFR 351.106(c)(2).

²⁰ See section 751(a)(2)(C) of the Act.

For entries of subject merchandise during the POR produced by either of the individually examined respondents for which they did not know that the merchandise was destined for the United States, we will instruct CBP to liquidate these entries at the all-others rate if there is no rate for the intermediate company(ies) involved in the transaction.²¹

²¹ For a full discussion of this practice, see Antidumping and Countervailing Duty Proceedings: Assessment of Antidumping Duties, 68 FR 23954 (May 6, 2003).

For the companies identified above that were not selected for individual examination, we will instruct CBP to liquidate entries at the rates established after the completion of the final results of review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements for estimated antidumping duties will be effective upon publication in the Federal Register of the notice of final results of this review for all shipments of olives from Spain entered, or withdrawn from warehouse, for consumption on or after the date of publication as provided by section 751(a)(2) of the Act: (1) the cash deposit rate for companies subject to this review will be equal to the weighted-average dumping margins established in the final results of the review; (2) for merchandise exported by companies not covered in this review but covered in a prior segment of this proceeding, the cash deposit rate will continue to be the company-specific rate published in the completed segment for the most recent period; (3) if the exporter is not a firm covered in this review, a prior review, or the original less-than-fair-value (LTFV) investigation but the producer is, then the cash deposit rate will be the rate established in the completed segment for the most recent period for the producer of the merchandise; and (4) the cash deposit rate for all other producers or exporters will continue to be 19.98 percent,²² the all-others rate established in the LTFV investigation. These cash deposit requirements, when imposed, shall remain in effect until further notice.

²² See Ripe Olives from Spain: Final Affirmative Determination of Sales at Less Than Fair Value, 83 FR 28193 (June 18, 2018).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

Commerce is issuing and publishing these preliminary results in accordance with sections 751(a)(1) and 777(i) of the Act and 19 CFR 351.221(b)(4).

Dated: June 3, 2022.
Lisa W. Wang,
Assistant Secretary for Enforcement and Compliance.

Appendix

List of Topics Discussed in the Preliminary Decision Memorandum

I. Summary

II. Background

III. Scope of the Order

IV. Preliminary Determination of No Shipments

V. Rate for Non-Selected Companies

VI. Discussion of the Methodology

VII. Currency Conversion

VIII. Recommendation

[FR Doc. 2022-12350 Filed 6-7-22; 8:45 am]

BILLING CODE 3510-DS-P